DEPARTMENT OF THE INTERIOR

National Park Service

[NPS-WASO-NAGPRA-NPS0037884; PPWOCRADN0-PCU00RP14.R50000]

Notice of Intended Repatriation: Gilcrease Museum, Tulsa, OK

AGENCY: National Park Service, Interior.

ACTION: Notice.

SUMMARY: In accordance with the Native American Graves Protection and Repatriation Act (NAGPRA), the Gilcrease Museum intends to repatriate certain cultural items that meet the definition of unassociated funerary objects and that have a cultural affiliation with the Indian Tribes or Native Hawaiian organizations in this notice.

DATES: Repatriation of the cultural items in this notice may occur on or after June 10, 2024.

ADDRESSES: Laura Bryant, Gilcrease Museum, 800 S Tucker Drive, Tulsa, OK 74104, telephone (918) 596-2747, email laura-bryant@utulsa.edu.

SUPPLEMENTARY INFORMATION: This notice is published as part of the National Park Service's administrative responsibilities under NAGPRA. The determinations in this notice are the sole responsibility of the Gilcrease Museum, and additional information on the determinations in this notice, including the results of consultation, can be found in the summary or related records. The National Park Service is not responsible for the determinations in this notice.

Abstract of Information Available

A total of 17 cultural items have been requested for repatriation. The 17 unassociated funerary objects are four lots of ceramic vessels, 11 lots of ceramic sherds and partially restored vessels, one lot of worked lithics, and one lot of gar scales. These were removed from the Banks Site in Crittenden County, AR by Frank Soday in the mid-20th century. The Soday collection was purchased by the Thomas Gilcrease Association and then donated to the Museum in 1982.

A total of two cultural items have been requested for repatriation. The two unassociated funerary objects are two lots of ceramic vessels. These were removed from the Cherry Valley site in Cross County, AR by Frank Soday in the mid-20th century.

A total of two cultural items have been requested for repatriation. The two unassociated funerary objects are one lot of ceramic vessels and one lot of worked shell, including ear plugs and gorget. These were removed from Rose Mound in Cross County, AR, by Dr. C.A. Self in 1936. Harry Lemley acquired the items from Dr. Self in 1936 and sold his collection to Thomas Gilcrease in 1955.

A total of two cultural items have been requested for repatriation. The two unassociated funerary objects are one lot of ceramic vessels and one lot of bone tools. These were removed from the Shawnee Village Site (3MS7) in Mississippi County, AR, by Carroll Snider, Dr. J.K. Hampson, and W.A. McKay. Harry Lemley acquired these items in 1932 and 1936 and sold his collection to Thomas Gilcrease in 1955.

A total of 30 cultural items have been requested for repatriation. The 30 unassociated funerary objects are two lots of ceramic vessels, 17 lots of sherds, one lot of daub, eight lots of worked lithics, one lot of ceramic pipe bowls and beads, and one lot of shell. These were removed from the Stott Site in Poinsett County, Arkansas likely by Elbert Hawkins in the 1970s.

Determinations

The Gilcrease Museum has determined that:

• The 53 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Quapaw Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after June 10, 2024. If competing requests for repatriation are received, the Gilcrease Museum must determine the most appropriate requestor prior to repatriation. Requests for joint repatriation of the cultural items are considered a single request and not competing requests. The Gilcrease Museum is responsible for sending a copy of this notice to the Indian Tribes and Native Hawaiian organizations identified in this notice and to any other consulting parties.

Authority: Native American Graves Protection and Repatriation Act, 25 U.S.C. 3004 and the implementing regulations, 43 CFR 10.9.

Dated: April 30, 2024.
Melanie O'Brien,
Manager, National NAGPRA Program.

[FR Doc. 2024-10159 Filed 5-8-24; 8:45 am]

BILLING CODE 4312-52-P